ENVIRONMENTAL PROTECTION AGENCY

40 CFR Part 112

[FRL-7637-8]

RIN 2050 AC62

Spill Prevention, Control, and Countermeasure (SPCC) Stakeholder Meeting

AGENCY: Environmental Protection Agency (EPA).

ACTION: Notice of meeting.

SUMMARY: On July 17, 2002 (67 FR 47042), EPA published final amendments to the SPCC rule. This rule amended an existing rule that had been in effect since 1974. This final rule was effective on August 16, 2002 and included dates by which a facility would have to amend and implement its SPCC plan. The Agency subsequently extended the compliance dates. The compliance deadline for revision and professional engineer (PE) certification of SPCC plans is August 17, 2004.

In anticipation of this August 17, 2004 deadline, EPA will hold a meeting with the regulatory community and interested stakeholders to explain Agency efforts to clarify the regulations and facilitate compliance.

DATES: EPA will hold a public meeting on March 31, 2004 from 9:30 a.m. to 3 p.m.

ADDRESSES: The meeting will be held in Washington, DC. The exact location of the meeting will be announced on the Oil Spill Program web site (http://www.epa.gov/oilspill/) or you may contact the person listed in FOR FURTHER INFORMATION CONTACT.

FOR FURTHER INFORMATION CONTACT: Members of the public desiring additional information about this meeting should contact: Leigh DeHaven, U.S. EPA (5203G), 1200 Pennsylvania Avenue, NW., Washington, DC 20460, via the Internet at: dehaven.leigh@epa.gov, by telephone at (703) 603-9065 or Fax at (703) 603-9116.

SUPPLEMENTARY INFORMATION: Agenda: Introduction/SPCC Program Strategy (9:30-10:15 a.m.), SPCC Litigation Settlement Issues (10:15-11 a.m.), Additional SPCC Policy Issues (11 a.m.-Noon), Lunch Break (Noon-1:15 p.m.), Additional SPCC Policy Issues (1:15-2:45 p.m.), Meeting Wrapup/Next Steps (2:45-3 p.m.).

If you are planning to attend the March 31, 2004 meeting in Washington, DC, we request you contact Leigh DeHaven (see FOR FURTHER INFORMATION CONTACT) so that we may have an idea of the number of the members of the public who will attend. In addition, if you need special accommodations due to a disability, please contact Leigh DeHaven no later than March 26, 2004.

Additional information on the SPCC Rule is available on the Internet at: http://www.epa.gov/oilspill/spcc.htm.

Dated: March 15, 2004.
Marianne Lamont Horinko,
Assistant Administrator, Office of Solid Waste and Emergency Response.

[FR Doc. 04-6207 Filed 3-17-04; 8:45 am]

BILLING CODE 6560-50-U